DEPARTMENT OF DEFENSE

Department of the Army

Notice of Availability of the Final Environmental Impact Statement (FEIS) for the 2005 Base Realignment and Closure (BRAC) and Transformation Actions at Fort Benning, GA

AGENCY: Department of the Army, DoD

ACTION: Notice of availability (NOA).

SUMMARY: The Department of the Army announces the availability of the FEIS which evaluates the potential environmental and socioeconomic impacts associated with the BRAC and Transformation Actions at Fort Benning, Georgia.

DATES: The waiting period for the FEIS will end 30 days after publication of an NOA in the Federal Register by the U.S. Environmental Protection Agency.

ADDRESSES: To obtain a copy of the FEIS contact Mr. John Brent, Fort Benning Directorate of Public Works, Environmental Management Division, Bldg #6 (Meloy Hall), Room 310, Fort Benning, GA 31905; e-mails to john.brent@benning.army.mil.

FOR FURTHER INFORMATION CONTACT: Ms. Monica Manganaro at (706) 545-3438, Fort Benning Public Affairs Office or Mr. Brandon Cockrell at (706) 545-3210.

SUPPLEMENTARY INFORMATION: The FEIS covers the construction activities, personnel increases, and training activities associated with the BRAC Commission recommendations, the Global Defense Posture Realignment (GDPR) overseas restationing actions, Army Modular Force (AMF) initiatives, and other discretionary stationing activities at Fort Benning, Georgia.

As a result of BRAC recommendations, Fort Benning will be receiving personnel, equipment, and missions from various realignment and closure actions within the Department of Defense. To implement the BRAC Commission recommended initiatives, the Army will provide the necessary facilities/buildings and infrastructure to support the changes. Permanent facilities will be constructed to house the Armor Center and School as well as several other unit relocations. Fort Benning also proposes to implement other transformation actions as the Army undergoes restructuring to meet the demands of the 21st century. The AMF initiative involves the Army's transition from a division-centric design to a standard brigade organization. The reshaping of the military force structure also includes provision for the return of units currently based overseas to United States installations as part of the GDPR. Finally, discretionary stationing actions (activations, inactivations, realignments, and relocations) are proposed, which contribute to and are interrelated with the transformation process.

Following an examination of all implementation alternatives, those alternatives found not to be viable were dropped from further analysis in the Fort Benning FEIS. Alternatives carried forward are: (1) Transformation Alternative A, which entails cantonment area development, construction of small- and large-caliber weapons ranges, heavy maneuver areas and corridors, a driver's training course, off-road driver's training area, and a vehicle recovery area to support the training range requirements; (2) Transformation Alternative B (the Army's Preferred Alternative), which is similar to Transformation Alternative A, with cantonment, maneuver and range projects, but with additional development of new tank training areas in the Good Hope area in the southern part of Fort Benning; and (3) the No Action Alternative, under which Fort Benning missions would continue as they were being performed in November 2005, when the BRAC Commission recommendations became law. The No Action Alternative provides the environmental baseline conditions for comparison to the impacts associated with the action alternatives.

Environmental consequences of two action alternatives (Alternative A and the Preferred Alternative), as well as the No Action Alternative, were evaluated for 13 resources. Under Alternative A, approximately 10,700 acres would be disturbed by Transformation activities; under the Preferred Alternative, approximately 19,100 acres would be disturbed. With the Preferred Alternative, there could potentially be land use compatibility issues for lands adjacent to the proposed Good Hope Maneuver Area. Changes would occur to aesthetic and visual resources, but impacts would not be significant. In terms of socioeconomics, development would take place and personnel growth would result in economic gains under both action alternatives, although the majority of the regional population increase is due to non-Army, private sector decisions; housing would be required; and if the local market could not support this increase in needs, there could be minor short-term effects. The Army and the local community are planning and coordinating to accommodate the increased student population. One available funding source for additional school construction is the Qualified Public Educational Facility (QPEF) Bond Program. On-post traffic congestion both during the construction period and operational phase is anticipated as well as traffic buildup at the main gate during peak hours; however, these would not be to such an extent to be significant with implementation of mitigation measures. Air quality would experience short-term construction emissions increases but would not significantly affect regional air quality in the long term. Noise would increase both on and off post, increasing the potential for annoyance in adjacent communities, but would not be significant with implementation of existing complaint processes. Utilities, safety, cultural resources, and hazardous and toxic materials and waste would not be significantly impacted by the proposed action. However, soils, water resources (including wetlands and state designated impaired streams), special status species (particularly, a population of relict trillium and the Rd-cockaded woodpecker), and Unique Ecological Areas could experience significant impacts under either action alternative. Cumulative impacts are expected to be the same for both action alternatives and would add significant impacts for socioeconomics given the anticipated additional Army and private growth in the area.

Fort Benning proposes to mitigate significant negative effects through a variety of strategies, including avoiding sensitive cultural resource sites, and preparation of an operational noise plan among others. Implementing applicable road improvements on post could minimize significant impacts to increased traffic. Through formal consultation with U.S. Fish and Wildlife Service, plans to minimize the effects on federally listed species will also be implemented, as specified in a biological assessment and opinion.

A Record of Decision will be signed at the end of the 30-day waiting period.

An electronic version of the FEIS can be viewed or downloaded from the following Web site: http://www.hqda.army.mil/acsim/brac/nepa_eis_docs.htm.

Dated: October 18, 2007.
Addison D. Davis, IV,
Deputy Assistant Secretary of the Army, (Environment, Safety and Occupational Health).

[FR Doc. 07-5250 Filed 10-25-07; 8:45 am]

BILLING CODE 3710-08-M